ENVIRONMENTAL PROTECTION AGENCY

[FRL 8720-4]

National Environmental Justice Advisory Council; Notice of Charter Renewal

AGENCY: Environmental Protection Agency.

ACTION: Notice of charter renewal.

The Charter for the Environmental Protection Agency's (EPA) National Environmental Justice Advisory Council (NEJAC) will be renewed for an additional two-year period, as a necessary committee which is in the public interest, in accordance with the provisions of the Federal Advisory Committee Act (FACA), 5 U.S.C. App. 2 Section 9(c). The purpose of the NEJAC is to provide advice and recommendations to the Administrator on issues associated with integrating environmental justice concerns into EPA's outreach activities, public policies, science, regulatory, enforcement, and compliance decisions.

It is determined that NEJAC is in the public interest in connection with the performance of duties imposed on the Agency by law.

Inquiries may be directed to Victoria Robinson, NEJAC Designated Federal Officer, U.S. EPA, 1200 Pennsylvania Avenue, NW., (Mail Code 2201A), Washington, DC 20460.

Dated: September 19, 2008.
Charles Lee,
Director, Office of Environmental Justice, Office of Enforcement and Compliance Assurance.

[FR Doc. E8-23166 Filed 10-1-08; 8:45 am]

BILLING CODE 6560-50-M